DEPARTMENT OF THE INTERIOR

Geological Survey

[GX22EB00A181100; OMB Control Number 1028-0085]

Agency Information Collection Activities; Submission to the Office of Management and Budget for Review and Approval; National Land Remote Sensing Education, Outreach and Research Activity

AGENCY: U.S. Geological Survey, Interior.

ACTION: Notice of information collection; request for comment.

SUMMARY: In accordance with the Paperwork Reduction Act (PRA) of 1995 we, the U.S. Geological Survey (USGS) are proposing to renew an information collection.

DATES: Interested persons are invited to submit comments on or before November 8, 2021.

ADDRESSES: Written comments and recommendations for the proposed information collection should be sent within 30 days of publication of this notice to www.reginfo.gov/public/do/PRAMain. Find this particular information collection by selecting “Currently under 30-day Review—Open for Public Comments” or by using the search function.

Written comments may also be submitted by mail to U.S. Geological Survey, Information Collections Officer, 12201 Sunrise Valley Drive, MS 159, Reston, VA 20192, or by email to gs-info_collections@usgs.gov. Please reference OMB Control Number 1028-0085 in the subject line of your mail or email.

FOR FURTHER INFORMATION CONTACT: To request additional information about this Information Collection Request (ICR), contact Sarah Cook by email at scook@usgs.gov or by telephone at 703-648-6136. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 18, 2021 (86 FR 26934). No comments were received.

As part of our continuing effort to reduce paperwork and respondent burdens, we are again soliciting comments from the public and other Federal agencies on the proposed ICR that is described below. We are especially interested in public comment addressing the following:

(1) Whether this collection of information is necessary for the proper performance of the functions of the USGS, including whether the information will have practical utility;

(2) Whether your estimate of the burden for this collection of information is accurate

(3) Whether the methodology and assumptions used are valid;

(4) how we might enhance the quality, utility, and clarity of the information to be collected; and

(5) How the USGS might minimize the burden of this collection of information on those asked to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The National Land Remote Sensing Education, Outreach and Research Activity (NLRSEORA) is an effort to develop a U.S. nationwide consortium to build the capability to receive, process, and archive remotely-sensed data for the purpose of providing access to university and state organizations in a ready-to-use format and to expand the science of remote sensing through education, research/applications development, and outreach in areas such as environmental monitoring to include the effects of climate variability on water availability and phenology, natural resource management, and disaster analysis. Respondents are submitting proposals to acquire funding for a national (U.S.) program to promote the uses of space-based land remote-sensing data and technologies through education and outreach at the State and local level and through university-based and collaborative research projects. The information collected will ensure that sufficient and relevant information is available to evaluate and select a proposal for funding. A panel of USGS Core Science Systems Mission Area managers and scientists will review each proposal to evaluate the technical merit, requirements, and priorities identified.

This notice concerns the collection of information that is sufficient and relevant to evaluate and select proposals for funding. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked. We intend to release the project abstracts and primary investigators for awarded/funded projects only.

Title of Collection: National Land Remote Sensing Education, Outreach and Research Activity.

OMB Control Number: 1028-0085.

Form Number: None.

Type of Review: Extension of a currently approved collection.

Respondents/Affected Public: Public or private institutions of higher education including universities; State and local governments (including county, city, township or special district governments); independent school districts, Tribal governments or organizations, nonprofit organizations (with or without 501(c)(3) status).

Total Estimated Number of Annual Respondents: 5.

Total Estimated Number of Annual Responses: 5.

Estimated Completion Time per Response: 2 hours.

Total Estimated Number of Annual Burden Hours: 10.

Respondent's Obligation: Voluntary.

Frequency of Collection: Annually.

Total Estimated Annual Nonhour Burden Cost: There are no “non-hour-cost” burdens associated with this IC.

An agency may not conduct, or sponsor and a person is not required to respond to a collection of information unless it displays a currently valid OMB control number.

The authority for this action is the Paperwork Reduction Act of 1995 (44 U.S.C. 3501 et seq.).

Timothy Newman,
Program Coordinator, National Land Imaging Program, U.S. Geological Survey.

[FR Doc. 2021-22049 Filed 10-7-21; 8:45 am]

BILLING CODE P